DEPARTMENT OF LABOR

Occupational Safety and Health Administration

[Docket No. OSHA-2016-0006]

Whistleblower Protection Advisory Committee (WPAC) Charter Renewal

AGENCY: Occupational Safety and Health Administration (OSHA), Labor.

ACTION: Announcement of WPAC charter renewal.

SUMMARY: In accordance with the provisions of the Federal Advisory Committee Act (FACA), and after consultation with the General Services Administration, the Secretary of Labor is renewing the charter for the Whistleblower Protection Advisory Committee (WPAC or the Committee). The Committee will better enable OSHA to perform its duties under the Occupational Safety and Health Act (the OSH Act) of 1970, and help to improve the fairness, efficiency, and transparency of OSHA's whistleblower investigations.

FOR FURTHER INFORMATION CONTACT: Anthony Rosa, OSHA, Directorate of Whistleblower Protection Programs, Room N-4618, U.S. Department of Labor, 200 Constitution Avenue NW., Washington, DC 20210; telephone (202) 693-2199; email osha.dwpp@dol.gov.

SUPPLEMENTARY INFORMATION: WPAC operates in accordance with the Federal Advisory Committee Act (FACA), as amended (5 U.S.C. App. 2), its implementing regulations (41 CFR part 102-3), and OSHA's regulations on advisory committees (29 CFR part 1912). Pursuant to Section 14 of FACA, WPAC's charter must be renewed every two years.

WPAC's duties are solely advisory and consultative. WPAC advises, consults with, and makes recommendations to the Secretary and the Assistant Secretary on matters relating to whistleblower complaints filed under the whistleblower statutes that the Occupational Safety and Health Administration (OSHA) enforces. The Committee is diverse and balanced, both in terms of categories of stakeholders (e.g., subject matter experts, labor, management, and state plans), and in the views and interests represented by the members.

Authority to establish this Committee is at Section 11(c) of the OSH Act, 29 U.S.C. 660(c); the Surface Transportation Assistance Act, 49 U.S.C. 31105; the Asbestos Hazard Emergency Response Act, 15 U.S.C. 2651; the International Safe Container Act, 46 U.S.C. 80507; the Safe Drinking Water Act, 42 U.S.C. 300j-9(i); the Federal Water Pollution Control Act, 33 U.S.C. 1367; the Toxic Substances Control Act, 15 U.S.C. 2622; the Solid Waste Disposal Act, 42 U.S.C. 6971; the Clean Air Act, 42 U.S.C. 7622; the Comprehensive Environmental Response, Compensation, and Liability Act, 42 U.S.C. 9610; the Energy Reorganization Act, 42 U.S.C. 5851; the Wendell H. Ford Aviation Investment and Reform Act for the 21st Century, 49 U.S.C. 42121; the Sarbanes-Oxley Act, 18 U.S.C. 1514A; the Pipeline Safety Improvement Act, 49 U.S.C. 60129; the Federal Railroad Safety Act, 49 U.S.C. 20109; the National Transit Systems Security Act, 6 U.S.C. 1142; the Consumer Product Safety Improvement Act, 15 U.S.C. 2087; the Affordable Care Act, 29 U.S.C. 218C; the Consumer Financial Protection Act of 2010, 12 U.S.C. 5567; the Seaman's Protection Act, 46 U.S.C. 2114; the FDA Food Safety Modernization Act, 21 U.S.C. 399d; and the Moving Ahead for Progress in the 21st Century Act, 49 U.S.C. 30171.

Authority and Signature

David Michaels, Ph.D., MPH, Assistant Secretary of Labor for Occupational Safety and Health, authorized the preparation of this notice under the authority granted by 5 U.S.C. App. 2, 41 CFR part 102-3, chapter 1600 of Department of Labor Management Series 3 (Aug. 15, 2013), 77 FR 3912 (Jan. 25, 2012), and the Secretary of Labor's authority to administer the whistleblower provisions found in 29 U.S.C. 660(c), 49 U.S.C. 31105, 15 U.S.C. 2651, 46 U.S.C. 80507, 42 U.S.C. 300j-9(i), 33 U.S.C. 1367, 15 U.S.C. 2622, 42 U.S.C. 6971, 42 U.S.C. 7622, 42 U.S.C. 9610, 42 U.S.C. 5851, 49 U.S.C. 42121, 18 U.S.C. 1514A, 49 U.S.C. 60129, 49 U.S.C. 20109, 6 U.S.C. 1142, 15 U.S.C. 2087, 29 U.S.C. 218c, 12 U.S.C. 5567, 46 U.S.C. 2114, 21 U.S.C. 399d, and 49 U.S.C. 30171.

Signed at Washington, DC, on April 19, 2016.
David Michaels,
Assistant Secretary of Labor for Occupational Safety and Health.

[FR Doc. 2016-09490 Filed 4-22-16; 8:45 am]

BILLING CODE 4510-26-P